NATIONAL SCIENCE FOUNDATION

Advisory Committee for Environmental Research and Education; Notice of Meeting

In accordance with the Federal Advisory Committee Act (Public Law 92-463, as amended), the National Science Foundation announces the following meeting:

Name: Advisory Committee for Environmental Research and Education (9487).

Dates: March 18, 2010, 8:30 a.m.-5 p.m. March 19, 2010, 8:30 a.m.-1 p.m.

Place: Stafford I, Room 375, National Science Foundation, 4201 Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for environmental research and education.

Agenda

March 18, 2010

• Update on recent NSF environmental activities.

• Discussion of Approaches to Managing Interdisciplinary Research at NSF.

• Meeting with the Director.

March 19, 2010

• Discussion on Expanding NSF Research Portfolio for Science, Engineering and Education for Sustainability (SEES).

• Discussion of NSF FY 2010 Climate Research Solicitations.

Dated: February 23, 2010.
Susanne Bolton,
Committee Management Officer.

[FR Doc. 2010-3972 Filed 2-25-10; 8:45 am]

BILLING CODE 7555-01-P